DEPARTMENT OF INTERIOR

National Park Service

Notice of Realty Action Proposed Exchange of Interest in Federally-Owned Lands for Privately-Owned Lands Both Within Smyth County, VA

AGENCY: National Park Service, Interior.

ACTION: Notice of realty action for proposed land exchange.

SUMMARY: The following described interests in federally-owned lands acquired by the National Park Service have been determined to be suitable for disposal by exchange. The authority for this exchange is section 5(b) of the Land and Water Conservation Fund Act Amendments in Pub. L. 90-401, approved July 15, 1968, and section 7(f) of the National Trails System Act, Pub. L. 90-543, as amended.

DATES: Comments on this proposed land exchange will be accepted through March 17, 2003.

ADDRESSES: Detailed information concerning this exchange including precise legal descriptions, Land Protection Plan, environmental assessment, and cultural reports, and Finding of No Significant Impact are available at the National Trails Land Resources Program Center, 1314 Edwin Miller Boulevard, PO Box 908, Martinsburg, West Virginia 25402. Comments may also be mailed to this address.

FOR FURTHER INFORMATION CONTACT: Judy L. Brumback, Chief, Acquisition Division, National Park Service, National Trails Land Resources Program Center, PO Box 908, Martinsburg, West Virginia 25402-0908. Phone: (304) 263-4943.

SUPPLEMENTARY INFORMATION: The selected interest in Federal land is within the boundaries of the Appalachian National Scenic Trail. The land has been surveyed for cultural resources and endangered and threatened species. These reports are available upon request.

Permanent and temporary easements, in varying widths from 168.45′ to 15.62′, providing the right to construct, install and maintain a natural gas pipeline are to be exchanged on this federally owned property. Tract 514-50, (permanent easement) consisting of Parcel A, with 0.27 of an acre, more or less, which occupies a portion of the land acquired by the United States of America from Ronald H. Cumbow, et al., by deed recorded in Smyth County; Deed Book 383, Page 709 (Tract 514-12) and Parcel B, with 0.82 of an acre, more or less, which occupies a portion of the land acquired by the United States of America from J. W. Cumbow, et ux., by deed recorded in Smyth County in Deed Book 427, Page 730 (Tract 514-37). Tract 514-51, (temporary easement, not to exceed 18 months) consisting of Parcel A, with 0.16 of an acre, more or less, which occupies a portion of the land acquired by the United States of America from Ronald H. Cumbow, et al., by deed recorded in Smyth County; Deed Book 383, Page 709 (Tract 514-12); Parcel B, with 0.64 of an acre, more or less, which occupies a portion of the same land acquired by the United States of America from Lucille L. Davis, et vir., by deed recorded in Smyth County in Deed Book 409, page 159 (Tract 514-33); Parcel C, with 0.09 of an acre, more or less, which occupies a portion of the same land acquired by the United States of America from J. W. Cumbow, et ux., by deed recorded in Smyth County in Deed Book 427, Page 730 (Tract 514-37) and Parcel D, with 1.69 acres, more or less, which occupies a portion of the same land acquired by the United States of America from J. W. Cumbow, et ux., by deed recorded in Smyth County in Deed Book 427, Page 730 (Tract 514-37).

Conveyance of the interest in land by the United States of America will be done by a Grant of Easement without warranty and will include easements terms to ensure that impact of construction and operation of the pipeline are minimized. Once construction and installation has been completed, the company will restore the disturbed property and carry out other reclamation and mitigation measures to further minimize impacts to the environment.

In exchange for the land described in Paragraph I above, the United States of America will acquire the fee interest in Tract 514-52, containing 1.13 acres, more or less and an easement over Tract 514-53, Parcels A and Parcel B, containing in the aggregate .82 of an acre, more or less, to be acquired by East Tennessee Natural Gas Pipeline Company. The Appalachian Trail footpath is located approximately 200 feet from this property. Acquisition of the fee and easement interests will provide additional protection for the footpath by protecting the resources. This land will be administered by the National Park Service as a part of the Appalachian National Scenic Trail upon completion of the exchange. This exchange of real property will provide permanent protection for the Appalachian Trail.

The land to be acquired by the United States of America is described as follows: Tract 514-52, the fee interest in 1.13 acres, more or less and Tract 514-53, a easement interest over 0.82 of an acre, more or less, acquired by East Tennessee Natural Gas Pipeline Company from Ron C. Reedy. The property is a portion of the lands acquired by Ron C. Reedy from J. W. Cumbow, et ux., recorded in Deed Book 453, Page 508, in the Clerk's Office of the Circuit Court of Smyth County, Commonwealth of Virginia.

Conveyance of the fee simple title and easement to the United States will be done by a General Warranty Deed.

The value of the properties exchanged shall be determined by a current fair market value appraisal. If the value of Tracts 514-50/51 exceeds the value of Tract 514-52/53, East Tennessee Natural Gas Pipeline Company shall make an equalization payment to the United States. If the value of Tracts 514-52/53 exceeds the value of Tract 514-50/51, East Tennessee Natural Gas Pipeline Company will donate the excess value to the United States.

Interested parties may submit written comments to the address listed in the ADDRESSES, paragraph. Adverse comments will be evaluated and this action may be modified or vacated accordingly. In the absence of any action to modify or vacate, this realty action will become the final determination of the Department of Interior.

Dated: November 22, 2002.
Pamela Underhill,
Park Manager, Appalachian National Scenic Trail.

[FR Doc. 03-2088 Filed 1-29-03; 8:45 am]

BILLING CODE 4310-70-P